NATIONAL FOUNDATION OF THE ARTS AND THE HUMANITIES

Institute of Museum and Library Services

78th Committee Meeting of the President's Committee on the Arts and the Humanities

AGENCY: Institute of Museum and Library Services (IMLS), National Foundation of the Arts and the Humanities.

ACTION: Notice of meeting.

SUMMARY: Pursuant to the Federal Advisory Committee Act, notice is hereby given that the President's Committee on the Arts and the Humanities will meet to consider a subcommittee proposal.

DATES: The meeting will be held virtually on January 8, 2025, at 4:30 p.m. Eastern Time (ET).

ADDRESSES: The meeting will convene in a virtual format. Individuals wishing to attend should contact Alexandra Piper at apiper@imls.gov for registration details.

FOR FURTHER INFORMATION CONTACT: Jasmine Jennings, Assistant General Counsel and Alternate Designated Federal Officer, Institute of Museum and Library Services, Suite 4000, 955 L'Enfant Plaza North SW, Washington, DC 20024; (202) 653-4653; jjennings@imls.gov.

SUPPLEMENTARY INFORMATION: The President's Committee on the Arts and the Humanities is meeting pursuant to Executive Order 14084 and the Federal Advisory Committee Act (FACA), as amended, 5 U.S.C. App. The 78th Meeting of the President's Committee on the Arts and Humanities will convene on January 8, 2025, at 4:30 p.m. ET. This meeting will be open to the public.

Purpose: To review and consider a subcommittee proposal regarding an Archive of Joy campaign.

Further Information: On January 8, 2025, at 4:30 p.m. ET, the Committee will meet to deliberate on a recommendation for Committee action. Any interested persons may attend as observers. Individuals wishing to attend should contact Alexandra Piper at apiper@imls.gov for registration details.

Dated: December 26, 2024.
Brianna Ingram,
Paralegal Specialist.

[FR Doc. 2024-31418 Filed 12-31-24; 8:45 am]

BILLING CODE 7036-01-P